DEPARTMENT OF TRANSPORTATION

Federal Aviation Administration

14 CFR Part 97

[Docket No. 29977; Amdt. No. 1985]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information is some previously designated FDC/Temporary (FDC/T) NOTAMs is of such duration as to be permanent. With conversion to FDC/P NOTAMs, the respective FDC/T NOTAMs have been canceled.

The FDC/P NOTAMs for the SIAPS contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 3 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on March 31, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs and § 97.97.35 COPTER SIAPs, identified as follows:

. . . Effective April 20, 2000

Chicago/Aurora, IL, Aurora Muni, VOR-A, Amdt 2

Chicago/Aurora, IL, Aurora Muni, VOR RWY 15, Orig

Chicago/Aurora, IL, Aurora Muni, VOR RWY 33, Orig

Chicago/Aurora, IL, Aurora Muni, VOR RWY 36, Amdt 3

Effective May 18, 2000

Anchorage, AK, Anchorage Intl, ILS RWY 6L, Orig

Effective June 15, 2000

Birmingham, AL, Birmingham Intl, GPS RWY 24, Orig-B

Columbus, GA, Columus Metropolitan, VOR/DME RNAV OR GPS RWY 23, Amdt 2

Jerome, ID, Jerome County, GPS RWY 8, Orig

Jerome, ID, Jerome County, GPS RWY 26, Orig

Belleville, IL, Midamerica Airport, NDB RWY 32R, Orig

Chicago, IL, Chicago Midway, NDB OR GPS RWY 4R, Amdt 12B

Chicago, IL, Chicago Midway, NDB OR GPS RWY 31C, Amdt 14B

Clinton, IA, Clinton Muni, NDB RWY 14, Amdt 5

Marshalltown, IA, Marshalltown Muni, VOR RWY 12, Amdt 1

Marshalltown, IA, Marshalltown Muni, VOR RWY 30, Amdt 1

Marshalltown, IA, Marshalltown Muni, NDB RWY 12, Amdt 8

Sioux City, IA, Sioux Gateway, GPS RWY 17, Amdt 1

Brainered, MN, Brainerd-Crow Wing Co Regional, VOR/DME OR GPS RWY 12, Amdt 9A

Brainered, MN, Brainerd-Crow Wing Co Regional, VOR OR GPS RWY 30, Amdt 13B

Brainered, MN, Brainerd-Crow Wing Co Regional, NDB OR GPS RWY 23, Amdt 5B

International Falls, MN, Falls Intl, COPTER ILS RWY 31, Orig

Cuba, MO, Cuba Muni, NDB-A, Orig

Cuba, MO, Cuba Muni, NDB OR GPS RWY 18, Amdt 2

Cuba, MO, Cuba Muni, NDB OR GPS RWY 36, Amdt 2

Glens Falls, NY, Floyd Bennet Memorial, VOR/DME OR GPS RWY 19, Amdt 6B

Dickinson, ND, Dickinson Muni, NDB RWY 32, Amdt 1

Dickinson, ND, Dickinson Muni, ILS RWY 32, Amdt 1

Dickinson, ND, Dickinson Muni, VOR/DME RNAV OR GPS RWY 14, Amdt 5, CANCELLED

Dickinson, ND, Dickinson Muni, RNAV RWY 14, Orig

Dickinson, ND, Dickinson Muni, RNAV RWY 32, Orig

Williston, ND, Sloulin Field Intl, VOR OR GPS RWY 11, Amdt 12B

Williston, ND, Sloulin Field Intl, NDB RWY 29, Amdt 2B

Cincinnati, OH, Cincinnati Muni Airport-Lunken Field, LOC BC RWY 3R, Amdt 8A

Cincinnati, OH, Cincinnati Muni Airport-Lunken Field, NDB OR GPS RWY 21L, Amdt 14A

Cleveland, OH, Cleveland-Hopkins Intl, NDB OR GPS RWY 5R, Amdt 5A

Cleveland, OH, Cleveland-Hopkins Intl, NDB OR GPS RWY 23L, Amdt 1A

Cleveland, OH, Cleveland-Hopkins Intl, VOR/DME RNAV OR GPS RWY 10 Amdt 12A

Corvallis, OR, Corvallis Muni, VOR/DME RWY 35, Amdt 11A

Hartsville, SC, Hartsville Rgnl, NDB RWY 3, Orig

Watertown, SD, Watertown Muni, LOC/DME BC RWY 17, Amdt 9A

Watertown, SD, Watertown Muni, LOC/DME BC RWY 35, Amdt 8A

Yankton, SC, Chan Gurney Muni, NDB OR GPS RWY 31, Amdt 2B

Chesapeake, VA, Chesapeake Muni, VOR/DME RWY 23, Amdt 2D

Cheyenne, WY, Cheyenne, GPS RWY 12, Amdt 1B

Cheyenne, WY, Cheyenne, GPS RWY 26, Orig

Gillette, WY, Gillette-Campbell County, LOC/DME BC RWY 16, Amdt 3A

. . . Effective July 13, 2000

La Grande, OR, La Grande/Union County, NDB-B, Orig

La Grande, OR, La Grande/Union County, NDB OR GPS-A, Amdt 3, CANCELLED

[FR Doc. 00-8456 Filed 4-5-00; 8:45 am]

BILLING CODE 4910-13-M